ENVIRONMENTAL PROTECTION AGENCY

[FRL-8308-3]

Agreement for Recovery of Response Costs and Covenant Not To Sue Under the Comprehensive Environmental Response, Compensation, and Liability Act Regarding the Dover Municipal Well #4 Superfund Site, Dover, Morris County, NJ

AGENCY: Environmental Protection Agency.

ACTION: Notice of proposed administrative settlement and request for public comment.

SUMMARY: In accordance with Section 122(i) of the Comprehensive Environmental Response, Compensation, and Liability Act of 1980, as amended (“CERCLA”), 42 U.S.C. 9601 et seq., the U.S. Environmental Protection Agency (“EPA”) announces a proposed administrative settlement to resolve claims under CERCLA. This settlement is intended to resolve the liability of a responsible party for certain response costs incurred and to be incurred by EPA at the Dover Municipal Well #4 Superfund Site located in Dover, Morris County, New Jersey (“Site”). The proposed administrative settlement is contained in an Agreement for Recovery of Past Response Costs (“Agreement”) between Marie Pennella (“the Settling Party”) and EPA. By this Notice, EPA is informing the public of the proposed settlement and of the opportunity to comment.

The Site includes Municipal Well #4, which was closed in 1980 after the discovery of volatile organic compounds in the well water. The Site also includes an approximately one quarter-acre parcel (“the Property”) owned by the Settling Party. A dry cleaning facility formerly operated on the Property, and the Property is a source of contamination of the groundwater found in Municipal Well #4.

EPA is the lead agency responsible for cleanup of the Site, and the New Jersey Department of Environmental Protection (“NJDEP”) serves as the support agency. In 1992, EPA issued a Record of Decision (“ROD”) selecting a remedy for the groundwater. In 2005, EPA issued a second ROD selecting the remedy for the contaminated soil and modifying the remedy for the deeper groundwater.

Section 122(h) of CERCLA authorizes EPA to consider, compromise and settle certain claims incurred by the United States. NJDEP has also incurred certain costs at the Site. This is an ability to pay settlement. Under the terms of the Agreement, the Settling Party will pay the entire proceeds of an insurance claim in the amount of $672,397 to EPA and NJDEP and transfer title to the Property to EPA. The Settling Party will remit 85% of the insurance proceeds to EPA and 15% of the proceeds to NJDEP. In exchange, EPA will grant a covenant not to sue or take administrative action against the Settling Party for reimbursement of past or future response costs pursuant to Section 107(a) of CERCLA.

EPA will consider any comments received during the comment period and may withdraw or withhold consent to the proposed settlement if comments disclose facts or considerations that indicate the proposed settlement is inappropriate, improper, or inadequate. EPA's response to any comments received will be available for public inspection at the U.S. Environmental Protection Agency, Office of Regional Counsel, 290 Broadway—17th Floor, New York, NY 10007-1866. Telephone: (212) 637-3111.

DATES: Comments must be provided within June 4, 2007.

ADDRESSES: Comments should be sent to the U.S. Environmental Protection Agency, Office of Regional Counsel, 290 Broadway—17th Floor, New York, NY 10007-1866 and should refer to: Dover Municipal Well #4 Superfund Site, U.S. EPA Docket No. CERCLA-02-2006-2002.

FOR FURTHER INFORMATION CONTACT: U.S. Environmental Protection Agency, Office of Regional Counsel, 290 Broadway—17th Floor, New York, NY 10007-1866. Telephone: (212) 637-3111.

SUPPLEMENTARY INFORMATION: A copy of the proposed administrative settlement may be obtained in person or by mail from Diego Garcia, U.S. Environmental Protection Agency, 290 Broadway—19th Floor, New York, NY 10007-1866. Telephone: (212) 637-4947.

George Pavlou,
Director, Emergency and Remedial Response Division, Region 2.

[FR Doc. E7-8441 Filed 5-2-07; 8:45 am]

BILLING CODE 6560-50-P